DEPARTMENT OF HEALTH AND HUMAN SERVICES

National Institutes of Health

National Institute of Neurological Disorders and Stroke; Amended Notice of Meeting

Notice is hereby given of a change in the meeting of the National Institute of Neurological Disorders and Stroke Special Emphasis Panel, December 13, 2023, 09:00 a.m. to December 14, 2023, 02:00 p.m., National Institutes of Health, Neuroscience Center, 6001 Executive Boulevard, Rockville, MD, 20852 which was published in the Federal Register on November 06, 2023, FR Doc. 2023-24811, 88 FR 77325.

“This notice is being amended to change the dates of this two-day meeting to January 4, 2024, and January 5, 2024. Change the meeting time to 9:00 a.m. to 5:00 p.m.” The meeting is closed to the public.

Dated: December 8, 2023.
Lauren A. Fleck,
Program Analyst, Office of Federal Advisory Committee Policy.

[FR Doc. 2023-27447 Filed 12-13-23; 8:45 am]

BILLING CODE 4140-01-P